DEPARTMENT OF COMMERCE

National Oceanic and Atmospheric Administration

50 CFR Part 660

[Docket No. 160728670-6904-01]

RIN 0648-BG23

Fisheries off West Coast States; Highly Migratory Fisheries; California Drift Gillnet Fishery; Protected Species Hard Caps for the California/Oregon Large-Mesh Drift Gillnet Fishery; Extension of Public Comment Period

AGENCY: National Marine Fisheries Service (NMFS), National Oceanic and Atmospheric Administration (NOAA), Commerce.

ACTION: Proposed rule; extension of public comment period.

SUMMARY: On October 13, 2016, NMFS published a proposed rule to establish protected species hard caps for the California/Oregon large-mesh drift gillnet fishery, with comments due by November 28, 2016. However, in response to a request to extend the public comment period, NMFS has decided to extend the public comment period by an additional 30 calendar days.

DATES: The deadline for receipt of comments on the proposed rule published on October 13, 2016 (81 FR 70660) is extended to December 28, 2016. NMFS must receive written comments and information on or before December 28, 2016.

ADDRESSES: You may submit comments on the proposed rule, draft Environmental Assessment (EA), draft Regulatory Impact Review (RIR), and Initial Regulatory Flexibility Analysis (IRFA), identified by NOAA-NMFS-2016-0123, by any of the following methods:

• Electronic Submission: Submit all electronic public comments via the Federal e-Rulemaking Portal. Go to http://www.regulations.gov/#!docketDetail;D=NOAA-NMFS-2016-0123, click the “Comment Now!” icon, complete the required fields, and enter or attach your comments.

• Mail: Submit written comments to Lyle Enriquez, NMFS West Coast Region, 501 W. Ocean Blvd., Suite 4200, Long Beach, CA 90802. Include the identifier “NOAA-NMFS-2016-0123” in the comments.

Instructions: Comments must be submitted by one of the above methods to ensure they are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

Copies of the draft EA, draft RIR, IRFA, and other supporting documents are available via the Federal eRulemaking Portal: http://www.regulations.gov, docket NOAA-NMFS-2016-0123 or by contacting the Regional Administrator, Barry Thom, NMFS West Coast Region, 1201 NE Lloyd Blvd., Portland, OR 97232-2182, or RegionalAdministrator.WCRHMS@noaa.gov.

FOR FURTHER INFORMATION CONTACT: Lyle Enriquez, NMFS, West Coast Region, 562-980-4025, or Lyle.Enriquez@noaa.gov.

SUPPLEMENTARY INFORMATION: On October 13, 2016, NMFS published a proposed rule in the Federal Register (81 FR 70660) announcing proposed issuance of regulations to establish protected species hard caps for the California/Oregon large-mesh drift gillnet fishery. The 45-day public comment period on the proposed rule ends on November 28, 2016.

On October 21, 2016, representatives of potentially affected parties requested an extension of the public comment period to aid in their review of the proposed rulemaking. NMFS has considered the request and will extend the comment period to December 28, 2016. This extension provides a total of 75 days for public input and continuing Federal agency reviews to inform NMFS' final decision to issue or deny the regulations.

NMFS refers the reader to the October 13, 2016, proposed rule (81 FR 70660) for background information concerning the proposed rulemaking as this notice does not repeat the information here.

Authority: 16 U.S.C. 1801 et seq.

Dated: November 15, 2016.
Samuel D. Rauch III,
Deputy Assistant Administrator for Regulatory Programs, National Marine Fisheries Service.

[FR Doc. 2016-28179 Filed 11-22-16; 8:45 am]

BILLING CODE 3510-22-P